DEPARTMENT OF THE INTERIOR

Bureau of Land Management

[ID-010-0777-XQ]

Notice of Meeting

AGENCY: Lower Snake River District, Bureau of Land Management, Interior.

ACTION: Notice.

SUMMARY: The Lower Snake River District Resource Advisory Council will meet in Boise. Potential agenda topics are sage grouse habitat management, off highway vehicle use, and other resource management issues.

DATES: August 21, 2000. The meeting will begin at 9:00 a.m. Public comment periods will be held at 9:30 a.m. and 3:00 p.m.

ADDRESSES: The meeting will be held at the Lower Snake River District Office, located at 3948 Development Avenue, Boise, Idaho.

FOR FURTHER INFORMATION CONTACT: Barry Rose, Lower Snake River District Office, 3948 Development Avenue, Boise, Idaho 83705, 208-384-3393.

Katherine Kitchell,
District Manager.

[FR Doc. 00-17699 Filed 7-12-00; 8:45 am]

BILLING CODE 4310-84-U